DEPARTMENT OF THE INTERIOR

National Park Service

National Register of Historic Places; Weekly Listing of Historic Properties

Pursuant to (36 CFR 60.13(b, c)) and (36 CFR 63.5), this notice, through publication of the information included herein, is to appraise the public as well as governmental agencies, associations and all other organizations and individuals interested in historic preservation, of the properties added to, or determined eligible for listing in, the National Register of Historic Places from October 27 to October 31, 2008.

For further information, please contact Edson Beall via: United States Postal Service mail, at the National Register of Historic Places, 2280, National Park Service, 1849 C St., NW., Washington, DC 20240; in person (by appointment), 1201 Eye St., NW., 8th floor, Washington, DC 20005; by fax, 202-371-2229; by phone, 202-354-2255; or by e-mail, Edson_Beall@nps.gov.

Dated: December 4, 2008.
J. Paul Loether,
Chief, National Register of Historic Places/National Historic Landmarks Program.

ARIZONA

Cochise County

Chiricahua National Monument Historic Designed Landscape, 12856 E. Rhyolite Canyon Rd., Willcox vicinity, 08001020, Listed, 10/31/08, (Historic Park Landscapes in National and State Parks MPS)

COLORADO

Weld County

Clubhouse—Student Union, Between 18th & 19th Sts., & 8th & 10th Aves., Greeley, 08001021, Listed, 10/29/08, (New Deal Resources on Colorado's Eastern Plains MPS)

LOUISIANA

Assumption Parish

LaBarre House, 4371 LA 1, Napoleonville vicinity, 08001019, Listed, 10/31/08

MARYLAND

Carroll County

Roop's Mill, 1001, 1019 Taneytown Pike, Westminster, 08000796, Listed, 10/31/08

Cecil County

Perry Point Village, A, B, C, D Aves., 2nd, 3rd, 4th, 5th Sts., Perry Point VA Center, Perry Point, 65009962, * Determined eligible, 10/31/08

Montgomery County

Krieger, Seymour, House, 9739 Brigadoon Dr., Bethesda, 08001022, Listed, 10/29/08

MISSISSIPPI

Harrison County

Gulfport-Harrison Public Library, 21st Ave., Gulfport, 65009961, * Determined eligible, 10/31/08

MISSOURI

Greene County

Ambassador Apartments, 1235 E. Elm St., Springfield, 08001023, Listed, 10/29/08, (Springfield MPS)

St. Louis Independent City

Farm and Home Savings and Loan Association, 1001 Locust St., St. Louis (Independent City), 08001025, Listed, 10/29/08

* Denotes FEDERAL Determination of Eligibility.

[FR Doc. E8-29660 Filed 12-15-08; 8:45 am]

BILLING CODE 4310-70-P